NUCLEAR REGULATORY COMMISSION

[Docket No. 50-305]

Nuclear Management Company, LLC; Notice of Withdrawal of Application for Amendment to Facility Operating License

The U.S. Nuclear Regulatory Commission (the Commission) has granted the request of Nuclear Management Company, LLC (the licensee) to withdraw its January 16, 2004, application for proposed amendment to Facility Operating License No. DPR-43 for the Kewaunee Nuclear Power Plant, located in Kewaunee County, Wisconsin.

The proposed amendment would have revised the Technical Specifications (1) to allow the containment equipment hatch to be open during refueling operations and/or during movement of irradiated fuel assemblies within containment, (2) to require verification of the ability to close the equipment hatch periodically during refueling operations, and (3) to include requirements for operability of the control room post accident recirculation system during fuel handling operations in which the fuel that is being moved has been irradiated within less than 30 days.

The Commission had previously issued a Notice of Consideration of Issuance of Amendment published in the Federal Register on February 17, 2004 (69 FR 7525). However, by letter dated June 8, 2004, the licensee withdrew the proposed change.

For further details with respect to this action, see the application for amendment dated January 16, 2004, and the licensee's letter dated June 8, 2004, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or (301) 415-4737 or by e-mail to pdr@nrc.gov.

Dated in Rockville, Maryland, this 16th day of June, 2004.
For the Nuclear Regulatory Commission.
Carl F. Lyon,
Project Manager, Section 1, Project Directorate III, Division of Licensing Project Management, Office of Nuclear Reactor Regulation.

[FR Doc. 04-14298 Filed 6-23-04; 8:45 am]

BILLING CODE 7590-01-P